DEPARTMENT OF THE TREASURY

Foreign Assets Control Office

Notice of OFAC Sanctions Action(s)

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for applicability date.

FOR FURTHER INFORMATION CONTACT:

OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

On February 26, 2020, OFAC determined that the property and interests in property subject to U.S. jurisdiction of the following individuals and entities are blocked under the relevant sanctions authority listed below.

Individuals

1. AASI, Sheikh Yusuf (a.k.a. ASI, El Yusuf Abd al-Rida), Majma Ahl al-Bayt, 6 Meqdad Burj al-Barajinah, Beirut, Lebanon; DOB 05 Feb 1962; alt. DOB 1962; POB Beirut, Lebanon (individual) [SDGT] (Linked To: MARTYRS FOUNDATION IN LEBANON).

Designated pursuant to section 1(a)(iii)(E) of Executive Order 13224 of September 23, 2001, “Blocking Property and Prohibiting Transactions With Persons Who Commit, Threaten to Commit, or Support Terrorism,” 3 CFR, 2001 Comp., p. 786, as amended by Executive Order 13886 of September 9, 2019, “Modernizing Sanctions To Combat Terrorism”, 84 FR 48041 (E.O. 13224, as amended), for being a leader or official of MARTYRS FOUNDATION IN LEBANON, a person whose property and interests in property are blocked pursuant to E.O. 13224, as amended.

2. NUR-AL-DIN, Jawad (a.k.a. NOURREDINE, Jawad; a.k.a. NUR AL-DIN, Shawqi Jawad Mohamad Shafiq; a.k.a. NUR AL-DIN, Shawqi Muhammad Shafiq), Lebanon; DOB 20 Oct 1962; Gender Male; Passport RL2514323 (Lebanon) (individual) [SDGT] (Linked To: MARTYRS FOUNDATION IN LEBANON).

Designated pursuant to section 1(a)(iii)(E) of E.O. 13224, as amended, for being a leader or official of MARTYRS FOUNDATION IN LEBANON, a person whose property and interests in property are blocked pursuant to E.O. 13224, as amended.

3. BAZZI, Kassem Mohamad Ali (a.k.a. BAZI, Qassem Mohammed Ali; a.k.a. BAZZI, Qasim Mohammed Ali; a.k.a. BAZZI, Qasim Muhammad Ali), Lebanon; DOB 02 Mar 1964; nationality Lebanon; Gender Male (individual) [SDGT] (Linked To: ATLAS HOLDING).

Designated pursuant to section 1(a)(iii)(E) of E.O. 13224, as amended, for being a leader or official of ATLAS HOLDING, a person whose property and interests in property are blocked pursuant to E.O. 13224, as amended.

Entities

1. AL KAWTHAR, Section 20, Property 372, Chiyah, Ghobeiri, Lebanon; Commercial Registry Number 2008349 (Lebanon) [SDGT] (Linked To: ATLAS HOLDING).

Designated pursuant to section 1(a)(iii)(A) of E.O. 13224, as amended, for being owned, controlled, or directed by ATLAS HOLDING, a person whose property and interests in property are blocked pursuant to E.O. 13224, as amended.

2. AMANA FUEL CO. (a.k.a. AMANA FOR HYDROCARBONS; a.k.a. “AL AMANA S.A.R.L.”), Lebanon; Al Ghubairah, Lebanon; Airport Road, Ayn Diblah Junction, Lebanon; Commercial Registry Number 2005606 (Lebanon) [SDGT] (Linked To: ATLAS HOLDING).

Designated pursuant to section 1(a)(iii)(A) of E.O. 13224, as amended, for being owned, controlled, or directed by ATLAS HOLDING, a person whose property and interests in property are blocked pursuant to E.O. 13224, as amended.

3. AMANA PLUS S.A.L. (a.k.a. AMANA PLUS CO.), Section 29, Block B, Property 327, Chiyah, Ghobeiri, Lebanon; Commercial Registry Number 2018014 (Lebanon) [SDGT] (Linked To: ATLAS HOLDING).

Designated pursuant to section 1(a)(iii)(A) of E.O. 13224, as amended, for being owned, controlled, or directed by ATLAS HOLDING, a person whose property and interests in property are blocked pursuant to E.O. 13224, as amended.

4. AMANA SANITARY AND PAINTS COMPANY L.T.D. (a.k.a. “APSCO”), second floor, Section 15B, Property 372, Chiyah, Ghobeiri, Lebanon; Commercial Registry Number 2010822 (Lebanon) [SDGT] (Linked To: ATLAS HOLDING).

Designated pursuant to section 1(a)(iii)(A) of E.O. 13224, as amended, for being owned, controlled, or directed by ATLAS HOLDING, a person whose property and interests in property are blocked pursuant to E.O. 13224, as amended.

5. ATLAS HOLDING (a.k.a. ATLAS HOLDING SAL), Lebanon; Mount Lebanon Mohafaza, Baabda Casa, MEC Center, Ghobairy, Lebanon; Chiyah, Ghobeiry, Lebanon; Commercial Registry Number 1900656 (Lebanon) [SDGT] (Linked To: MARTYRS FOUNDATION IN LEBANON).

Designated pursuant to section 1(a)(iii)(A) of E.O. 13224, as amended, for being owned, controlled, or directed by MARTYRS FOUNDATION IN LEBANON, a person whose property and interests in property are blocked pursuant to E.O. 13224, as amended.

6. CAPITAL S.A.L., Section 34, Block B, Chiyah, Lebanon; Commercial Registry Number 2051340 (Lebanon) [SDGT] (Linked To: ATLAS HOLDING).

Designated pursuant to section 1(a)(iii)(A) of E.O. 13224, as amended, for being owned, controlled, or directed by ATLAS HOLDING, a person whose property and interests in property are blocked pursuant to E.O. 13224, as amended.

7. CITY PHARMA SARL, Section 35, Block B, Property 2433, Borj al Barajneh, Lebanon; Commercial Registry Number 2014987 (Lebanon) [SDGT].

Designated pursuant to section 1(a)(iii)(A) of E.O. 13224, as amended, for being owned, controlled, or directed by ATLAS HOLDING, a person whose property and interests in property are blocked pursuant to E.O. 13224, as amended.

8. GLOBAL TOURISTIC SERVICES SAL, Property 362, Section 8, Block B, Eidi Building, Chiyah, Lebanon; Commercial Registry Number 2012409 (Lebanon) [SDGT] (Linked To: ATLAS HOLDING).

Designated pursuant to section 1(a)(iii)(A) of E.O. 13224, as amended, for being owned, controlled, or directed by ATLAS HOLDING, a person whose property and interests in property are blocked pursuant to E.O. 13224, as amended.

9. MEDICAL EQUIPMENT AND DRUGS INTERNATIONAL CORPORATION (a.k.a. MEDICAL EQUIPMENT & DRUGS INTERNATIONAL CORPORATION; a.k.a. “DRUGS AND MEDICAL SUPPLIES”; a.k.a. “MEDIC”), Safco Center B1-B2, Airport Road, Beirut, Lebanon; Property 2933, Section 35, Safco Center, Basement, Airport Road, Borj al Barajneh, Lebanon; Lebanon; Commercial Registry Number 2034502 (Lebanon) [SDGT] (Linked To: ATLAS HOLDING).

Designated pursuant to section 1(a)(iii)(A) of E.O. 13224, as amended, for being owned, controlled, or directed by ATLAS HOLDING, a person whose property and interests in property are blocked pursuant to E.O. 13224, as amended.

10. MIRATH S.A.L., Airport Road, Section 11, Property 5728, Chiyah, Lebanon; Commercial Registry Number 2030248 (Lebanon) [SDGT] (Linked To: NUR AL DIN, Jawad).

Designated pursuant to section 1(a)(iii)(A) of E.O. 13224, as amended, for being owned, controlled, or directed by JAWAD NUR-AL-DIN, a person whose property and interests in property are blocked pursuant to E.O. 13224, as amended.

11. SANOVERA PHARM COMPANY SARL (a.k.a. SANOVERA; a.k.a. SANOVIRA),

Section 19, Property 372, Chiyah, Lebanon; Commercial Registry Number 2035319 (Lebanon) [SDGT] (Linked To: ATLAS HOLDING).

Designated pursuant to section 1(a)(iii)(A) of E.O. 13224, as amended, for being owned, controlled, or directed by ATLAS HOLDING, a person whose property and interests in property are blocked pursuant to E.O. 13224, as amended.

12. SHAHED PHARM (a.k.a. SHAHED PHARM DRUGSTORE SARL), Centre Safco, B1, B2, B3, Airport Road, Beirut, Lebanon; Lebanon; Commercial Registry Number 2009847 (Lebanon) [SDGT] (Linked To: ATLAS HOLDING).

Designated pursuant to section 1(a)(iii)(A) of E.O. 13224, as amended, for being owned, controlled, or directed by ATLAS HOLDING, a person whose property and interests in property are blocked pursuant to E.O. 13224, as amended.

Dated: February 26, 2020.
Andrea Gacki,
Director, Office of Foreign Assets Control.

[FR Doc. 2020-04403 Filed 3-6-20; 8:45 am]

BILLING CODE 4810-AL-P